DEPARTMENT OF THE INTERIOR

Bureau of Indian Affairs

[167 A2100DD/AAKC001030/A0A501010.999900]

Renewal of Agency Information Collection for Energy Resource Development Program Grants

AGENCY: Bureau of Indian Affairs, Interior.

ACTION: Notice of submission to OMB.

SUMMARY: In compliance with the Paperwork Reduction Act of 1995, the Bureau of Indian Affairs (BIA) has submitted to the Office of Management and Budget (OMB) a request for renewal of the collection of information for grants under the Office of Indian Energy and Economic Development, Energy and Mineral Development Program, authorized by OMB Control Number 1076-0174. This information collection expires June 30, 2016.

DATES: Interested persons are invited to submit comments on or before July 25, 2016.

ADDRESSES: Please submit your comments to the Desk Officer for the Department of the Interior at the Office of Management and Budget, by facsimile to (202) 395-5806 or you may send an email to: OIRA_Submission@omb.eop.gov. Also please send a copy of your comments to Rebecca Naragon, U.S. Department of the Interior, Office of Indian Energy and Economic Development, 1951 Constitution Avenue NW., MS-16-SIB, Washington, DC 20245; email: Rebecca.Naragon@bia.gov.

FOR FURTHER INFORMATION CONTACT: Rebecca Naragon, U.S. Department of the Interior, Office of Indian Energy and Economic Development, 1951 Constitution Avenue NW., MS-16-SIB, Washington, DC 20245; email: Rebecca.Naragon@bia.gov. You may review the information collection request online at http://www.reginfo.gov. Follow the instructions to review Department of the Interior collections under review by OMB.

SUPPLEMENTARY INFORMATION:

I. Abstract

The Energy Policy Act of 2005, 25 U.S.C. 3502(a)(2)(B) authorizes the Secretary of the Interior to provide grants to assist Indian Tribes in the development of energy resources and further the goal of Indian self-determination.

The Office of Indian Energy and Economic Development (IEED) administers and manages the energy resource development grant program under the Energy and Minerals Development Program (EMDP). Congress may appropriate funds to EMDP on a year-to-year basis. When funding is available, IEED may solicit proposals for energy resource development projects from Indian Tribes and Tribal energy resource development organizations for use in carrying out projects to promote the integration of energy resources, and to process, use or develop those energy resources on Indian land. The projects may be in the areas of exploration, assessment, development, feasibility, or market studies. Indian Tribes that would like to apply for an EMDP grant must submit an application that includes certain information, and must assist IEED by providing information in support of any National Environmental Policy Act (NEPA) analyses. Upon acceptance of an application, a Tribe must then submit one—to two—page quarterly progress reports summarizing events, accomplishments, problems and/or results in executing the project. Quarterly reports assist IEED staff with project monitoring of the EMDP program and ensure that projects are making adequate progress in achieving the project's objectives.

II. Request for Comments

The Bureau of Indian Affairs (BIA) requests your comments on this collection concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents.

Please note that an agency may not conduct or sponsor, and an individual need not respond to, a collection of information unless it displays a valid OMB Control Number.

It is our policy to make all comments available to the public for review at the location listed in the ADDRESSES section. Before including your address, phone number, email address or other personal identifying information in your comment, you should be aware that your entire comment—including your personal identifying information—may be made publicly available at any time. While you can ask us in your comment to withhold your personal identifying information from public review, we cannot guarantee that we will be able to do so.

III. Data

OMB Control Number: 1076-0174.

Title: Energy and Mineral Development Program Grants.

Brief Description of Collection: Indian Tribes that would like to apply for an EMDP grant must submit an application that includes certain information. A complete application must contain a current, signed Tribal resolution that provides sufficient information to authorize the project and comply with the terms of the grant; a proposal describing the planned activities and deliverable products; and a detailed budget estimate. The IEED requires this information to ensure that it provides funding only to those projects that meet the goals of the EMDP and purposes for which Congress provides the appropriation. Upon acceptance of an application, a Tribe must then submit one—to two—page quarterly progress reports summarizing events, accomplishments, problems and/or results in executing the project.

Type of Review: Extension without change of currently approved collection.

Respondents: Federally recognized Indian Tribes with Indian land.

Number of Respondents: 53 applicants per year; 34 project participants each year.

Frequency of Response: Once per year for applications; 4 times per year for progress reports.

Obligation to Respond: Responses are required to receive or maintain a benefit.

Estimated Time per Response: 40 hours per application; 1.5 hours per progress report.

Estimated Total Annual Hour Burden: 2,324 hours (2,120 for applications and 204 for progress reports).

Estimated Total Annual Non-Hour Collar Cost: $0.

Elizabeth K. Appel,
Director, Office of Regulatory Affairs and Collaborative Action—Indian Affairs.

[FR Doc. 2016-14841 Filed 6-22-16; 8:45 am]

BILLING CODE 4337-15-P